DEPARTMENT OF TRANSPORTATION

Federal Aviation Administration

Agency Information Collection Activities: Requests for Comments; Clearance of Renewed Approval of Information Collection: Agricultural Aircraft Operator Certificate Application

AGENCY: Federal Aviation Administration (FAA), DOT.

ACTION: Notice and request for comments.

SUMMARY: In accordance with the Paperwork Reduction Act of 1995, FAA invites public comments about our intention to request the Office of Management and Budget (OMB) approval to renew an information collection. Standards have been established for the certification of agricultural aircraft. The information collected shows applicant compliance and eligibility for certification by FAA.

DATES: Written comments should be submitted by May 9, 2011.

FOR FURTHER INFORMATION CONTACT: Carla Scott on (202) 267-9895, or by e-mail at: Carla.Scott@faa.gov.

SUPPLEMENTARY INFORMATION:

OMB Control Number: 2120-0049.

Title: Agricultural Aircraft Operator Certificate Application.

Form Numbers: FAA Form 8710-3.

Type of Review: Renewal of an information collection.

Background: The information on FAA Form 8710-3, Agricultural Aircraft Operator Certificate Application, is required by FAR Part 137 from applicants who wish to be issued a commercial or private agricultural aircraft operator certificate.

Respondents: Approximately 3,980 applicants.

Frequency: Information is collected on occasion.

Estimated Average Burden per Response: 3.5 hours.

Estimated Total Annual Burden: 14,037 hours.

ADDRESSES: Send comments to the FAA at the following address: Ms. Carla Scott, Room 712, Federal Aviation Administration, IT Enterprises Business Services Division, AES-200, 800 Independence Ave., SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on March 3, 2011.
Carla Scott,
FAA Information Collection Clearance Officer, IT Enterprises Business Services Division, AES-200.

[FR Doc. 2011-5490 Filed 3-9-11; 8:45 am]

BILLING CODE 4910-13-P